DEPARTMENT OF TRANSPORTATION

Federal Aviation Administration

14 CFR Part 39

[Docket No. FAA-2004-18583; Directorate Identifier 2002-NM-285-AD]

RIN 2120-AA64

Airworthiness Directives; Boeing Model 747-100, -100B, -100B SUD, -200B, -200C, -300, -400, and -400D Series Airplanes; and Model 747SR Series Airplanes

AGENCY: Federal Aviation Administration (FAA), Department of Transportation (DOT).

ACTION: Proposed rule; withdrawal.

SUMMARY: The FAA withdraws a notice of proposed rulemaking (NPRM) that proposed a new airworthiness directive (AD) for certain Boeing Model 747-100, -100B, -100B SUD, -200B, -200C, -300, -400, and -400D series airplanes; and Model 747SR series airplanes. The proposed AD would have required repetitive inspections of the forward corner reveal of the number 3 main entry doors (MEDs) for cracking, and corrective actions if necessary. Since the proposed AD was issued, we have received comments for the NPRM and new data showing other issues related to the unsafe condition. The data include reports that additional airplanes are affected by the identified unsafe condition; and that a “sharp edge” detail may be present on certain one-piece machined 6061 aluminum reveals, which could lead to fatigue cracking. We have determined from these data that the corrective actions proposed by the NPRM are inadequate for addressing the identified unsafe condition. We are considering requiring other rulemaking, which provides corrective actions for the identified unsafe condition. Accordingly, the proposed AD is withdrawn.

ADDRESSES: You may examine the AD docket on the Internet at http://dms.dot.gov, or in person at the Docket Operations office between 9 a.m. and 5 p.m., Monday through Friday, except Federal holidays. The Docket Operations office (telephone (800) 647-5527) is located on the ground floor of the West Building, Room W12-140, 1200 New Jersey Avenue, SE., Washington, DC. This docket number is FAA-2004-18583; Directorate Identifier 2002-NM-285-AD.

FOR FURTHER INFORMATION CONTACT: Ivan Li, Aerospace Engineer, Airframe Branch, ANM-120S, FAA, Seattle Aircraft Certification Office, 1601 Lind Avenue, SW., Renton, Washington 98057-3356; telephone (425) 917-6437; fax (425) 917-6590.

SUPPLEMENTARY INFORMATION:

Discussion

We proposed to amend part 39 of the Federal Aviation Regulations (14 CFR part 39) with a notice of proposed rulemaking (NPRM) for a new AD for certain Boeing Model 747-100, -100B, -100B SUD, -200B, -200C, -300, -400, and -400D series airplanes; and Model 747SR series airplanes. That NPRM was published in the Federal Register on July 13, 2004 (69 FR 41997). The NPRM would have required repetitive inspections of the lower forward corner reveal of the number 3 main entry doors (MEDs) for cracking, and corrective actions if necessary. The NPRM resulted from reports of cracking in the forward corner reveal of the number 3 MEDs. The proposed actions were intended to detect and correct misalignment of the girt bar fitting due to fatigue failure of the forward corner reveal of the number 3 MEDs, which could lead to the door escape slide departing from the airplane if the door is opened when the slide is deployed, and consequent injuries to passengers and crew using the door escape slide during an emergency evacuation.

Actions Since NPRM Was Issued

Since we issued the NPRM, we have received comments for the NPRM and new data showing other issues related to the unsafe condition. The data include reports that additional airplanes, on which a one-piece machined 6061 aluminum reveal is installed, are affected by the identified unsafe condition. In addition, a “sharp edge” detail may be present on certain one-piece machined 6061 aluminum reveals, which could lead to fatigue cracking. We have determined from these data that the corrective actions proposed by the NPRM are inadequate for addressing the identified unsafe condition. We are considering requiring other rulemaking, which provides corrective actions for the identified unsafe condition.

FAA's Conclusions

Upon further consideration, we have determined that the corrective actions proposed by the NPRM are inadequate for addressing the identified unsafe condition. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2004-18583; Directorate Identifier 2002-NM-285-AD, which was published in the Federal Register on July 13, 2004 (69 FR 41997).

Issued in Renton, Washington, on September 7, 2007.
Ali Bahrami,
Manager, Transport Airplane Directorate, Aircraft Certification Service.

[FR Doc. E7-18449 Filed 9-18-07; 8:45 am]

BILLING CODE 4910-13-P